DEPARTMENT OF THE INTERIOR

Bureau of Land Management

[WY-090-03-1610-DQ]

Notice of Availability of the Final Environmental Impact Statement for the Powder River Basin Oil and Gas Project and Proposed Resource Management Plan Amendments; Johnson, Sheridan, Campbell, and Converse Counties, WY

AGENCY: Bureau of Land Management, Interior.

ACTION: Notice of Availability (NOA) of Final Environmental Impact Statement (FEIS), and Proposed Resource Management Plan (RMP) Amendments.

SUMMARY: The Bureau of Land Management (BLM) announces the availability of the FEIS for the Powder River Basin Oil and Gas Project and Proposed Plan Amendments to the Buffalo RMP (1985), Platte River RMP (1985) and Thunder Basin National Land and Resource Management Plan (LRMP) (Forest Service 2002). The FEIS documents the direct, indirect, and cumulative environmental impacts from the development of oil and gas resources within the project area in Sheridan, Campbell, Johnson, and Converse Counties, Wyoming. The FEIS describes and analyzes options for developing oil and gas resources while providing protection to other land uses and resource values. The Forest Service and the State of Wyoming (Wyoming Department of Environmental Quality) are cooperating agencies.

DATES: The Powder River Basin Oil and Gas Project FEIS and Proposed Plan Amendments will be available for review for 30 calendar days from the date the Environmental Protection Agency (EPA) publishes its NOA in the Federal Register. Comments on the Powder River Basin Oil and Gas Project FEIS (PRB EIS) must be filed within the 30-day review period. Under the provisions of 43 Code of Federal Regulations (CFR) § 1610.5 protests of proposed BLM RMP amendments must be filed with the Director in accordance with the instructions described in the FEIS and included in the Supplemental Information section of this notice. Protest of the proposed amendments to the Buffalo and Platte River RMPs will be accepted no later than 30 calendar days from the date the EPA publishes its NOA in the Federal Register. The Forest Service would amend the Thunder Basin National LRMP under its land and resources management planning processes and authorities.

ADDRESSES: A copy of the FEIS has been sent to affected Federal, State, and local government agencies and to interested parties. The document will be available electronically on the following Web site: http://www.prb-eis.org. Copies of the FEIS are available for public inspection at the following BLM office locations:

• Bureau of Land Management, Wyoming State Office, 5353 Yellowstone Road, Cheyenne, Wyoming 82003

• Bureau of Land Management, Buffalo Field Office, 1425 Fort Street, Buffalo, Wyoming 82834

• Bureau of Land Management, Casper Field Office, 2987 Prospector Drive, Casper, Wyoming 82604-2968

FOR FURTHER INFORMATION: Contact Mr. Paul Beels, Project Manager, 1425 Fort Street, Buffalo, WY 82834, or paul_beels@blm.gov. Mr. Beels may also be reached at 307-684-1168.

SUPPLEMENTARY INFORMATION: The FEIS analyzes a proposal by companies to drill and develop additional oil and gas resources, including coalbed methane (CBM), in Wyoming's Powder River Basin. Oil and gas development activities would include drilling, operating, and reclaiming almost 39,400 new CBM wells and 3,000 oil and gas wells; and constructing, operating, and reclaiming various ancillary facilities needed to support the new wells. Drilling would begin in 2003 and continue for 10 years.

The project area includes almost 8,000,000 acres in northeastern Wyoming, encompassing all of Johnson and Sheridan Counties except the Bighorn National Forest System lands, all of Campbell County and the northern portion of Converse County. The public lands and Federal mineral resources analyzed include all of those administered by the BLM Buffalo Field Office (FO) and a small portion that is administered by the Casper FO. The mineral resources analyzed also include the Federal oil and gas underlying the National Forest System lands and surface resources (Thunder Basin National Grassland) administered by the USDA Forest Service.

The FEIS describes the physical, biological, cultural, historic, and socioeconomic resources in and surrounding the project area. The focus for impact analysis was based upon resource issues and concerns identified during the public scoping process. Potential impacts of concern from development (not in priority order), are: economic, social, health and safety effects on the communities of Buffalo, Sheridan, and Gillette, Wyoming, and other surrounding communities; crucial elk winter range; sage grouse and raptor breeding and nesting; soil erosion; air quality effects; groundwater draw down and contamination; surface water quality; historic Bozeman Trail condition and its viewshed; and cumulative effects. The primary issues driving alternative development are water quality and quantity and air quality.

Three alternatives were analyzed in detail: (1) Proposed Action, (2) Proposed Action with Reduced Emission Levels and Expanded Produced Water Handling Scenarios, and (3) No Action. Alternative 1 consisted of a combination of the CBM development proposal submitted by the oil and gas companies and non-CBM oil and gas development possibilities described in BLM's Reasonable Foreseeable Development (RFD) scenario. Alternative 2 was developed in response to issues raised during the public and agency scoping process. This alternative, which consists of Alternatives “2A” and “2B”, would replace some of the proposed gas-fired compressors with electrical compressors and would involve a more limited amount of water that would be discharged directly to the watersheds. As required by National Environmental Policy Act (NEPA), the No Action alternative is a basis for comparison with other alternatives analyzed in the EIS. For this project, the No Action Alternative would not authorize additional development of oil and gas on Federal leases within the Project Area. Drilling would continue on State and private leases, irrespective of the decisions resulting from this document.

Agency-Preferred Alternative: BLM's preferred alternative is a combination of Alternative 2A and Alternative 1. The Preferred Alternative includes the use of natural gas powered compressors but does not preclude the use of electric powered compressor stations, as outlined in Alternative 1. All other parts of the Preferred Alternative are as outlined in Alternative 2A. The Preferred Alternative allows the Wyoming DEQ maximum flexibility to comply with applicable national and state air and water quality standards.

Proposed Land Use Plan Amendments: The BLM RMPs would be amended to allow oil and gas exploration and development at the level analyzed in the FEIS and to adopt new conditions of use. In addition, the FEIS updates the NEPA analysis for the RMPs for management of oil and gas exploration and development on federal leases.

For the U.S. Forest Service, the FEIS will be used to allow oil and gas exploration and development at the level analyzed in the FEIS, update the NEPA analysis for the LRMP and adopt the 2002 LRMP stipulations for the area west of the coal outcrop line.

The Proposed Plan Amendments do not include changes to the leasing allocation decisions, as the FEIS does not address leasing.

RMP amendments would provide complete and concise descriptions of applicable management practices for oil and gas development.

The DEIS was available for public review and comment from January 18, 2002, through May 15, 2002. The distribution list included the agencies, companies, organizations, and individuals that had expressed an interest in the project during scoping. The list included several Federal and State agencies and elected officials to whom BLM commonly sends EISs. During this period, the BLM encouraged reviewers to submit written comments on the DEIS. In addition, the BLM held public meetings on the DEIS on March 18-21, 2002, to provide the public with the opportunity to submit oral and written comments. All comments presented throughout the process have been considered.

Ultimately, the BLM State Director's decision whether to adopt the proposed RMP amendment will be documented in a Record of Decision and issued under the authority of the Federal Land Policy and Management Act as codified at 43 CFR part 1610. If adopted, these proposed RMP amendments do not constitute authorization to the oil and gas companies to implement projects nor engage in any ground-disturbing activities. Decisions regarding these site-specific implementation activities are subject to further NEPA analysis and appeal, as provided by applicable regulations.

Protest Instructions: Publication of this EIS prepared for a RMP amendment affords the public the opportunity to protest. Instructions for filing a protest with the Director of the BLM regarding the State Director's proposed amendments to the Buffalo and Platte River RMPs may be found at 43 CFR 1610.5. Any person who participated in the planning process and has an interest or may be adversely affected by the approval of the proposed Plan Amendment, may protest such approval. A protest may raise only those issues that were submitted for the record during the planning process. The protest must be in writing and must be filed with the Director. The protest must be filed within 30 days from the date the Environmental Protection Agency publishes the NOA in the Federal Register. The protest must contain:

i. The name, mailing address, telephone number, and interest of the person filing the protest;

ii. A statement of the issue or issues being protested;

iii. A statement of the part, or parts, of the plan or amendment being protested;

iv. A copy of all documents addressing the issue, or issues, that were submitted during the planning process by the protesting party or an indication of the date the issue, or issues, were discussed for the record; and

v. A concise statement explaining why the State Director's decision is believed to be wrong.

The Director must promptly render a decision on the protest. The decision must be in writing and must set forth the reasons for the decision. The decision must be sent to the protesting party by certified mail, return receipt requested. The decision of the Director must be the final decision for the Department of the Interior.

Protest Filing Addresses: Protests submitted electronically will not be accepted. File written protests by: Surface mail: U.S. Department of the Interior, Bureau of Land Management, Director (210), Attn: Ms. Brenda Williams, Protest Coordinator, P.O. Box 66538, Washington DC 20035 or Overnight mail: U.S. Department of the Interior, Bureau of Land Management, Director, Protest Coordinator (WO-210), 1620 L Street, NW., Room 1075, Washington, DC 20036.

Dated: December 18, 2002.
Robert P. Henry,
Acting State Director.

[FR Doc. 03-1082 Filed 1-16-03; 8:45 am]

BILLING CODE 4310-42-P